DEPARTMENT OF HOMELAND SECURITY

Office of the Secretary

[Docket No. DHS-2011-0053]

Privacy Act of 1974; Department of Homeland Security United States Coast Guard—020 Substance Abuse Prevention and Treatment Program System of Records

AGENCY: Privacy Office, DHS.

ACTION: Notice of Privacy Act system of records.

SUMMARY: In accordance with the Privacy Act of 1974, the Department of Homeland Security proposes to update and reissue an existing Department of Homeland Security system of records titled, “Department of Homeland Security/United States Coast Guard—020 Substance Abuse Prevention and Treatment Program System of Records.” This system of records notice allows the Department of Homeland Security/United States Coast Guard to collect and maintain the United States Coast Guard's Substance Abuse Prevention and Treatment Program records. As a result of a biennial review of this system, categories of individuals, categories of records, and the purpose of the system have been updated. This updated system will replace the previously published system of records in the Department of Homeland Security's inventory of record systems.

DATES: Submit written comments on or before September 9, 2011. This new system will be effective September 9, 2011.

ADDRESSES: You may submit comments, identified by docket number DHS-2011-0053 by one of the following methods:

• Federal e-Rulemaking Portal: http://www.regulations.gov. Follow the instructions for submitting comments.

• Fax: 1-703-483-2999.

• Mail: Mary Ellen Callahan, Chief Privacy Officer, Privacy Office, Department of Homeland Security, Washington, DC 20528.

• Instructions: All submissions received must include the agency name and docket number for this rulemaking. All comments received will be posted without change to http://www.regulations.gov, including any personal information provided.

• Docket: For access to the docket, to read background documents, or comments received, go to http://www.regulations.gov.

FOR FURTHER INFORMATION CONTACT: For general questions please contact: Marilyn Scott-Perez (202-475-3515), Privacy Officer, United States Coast Guard, 2100 2nd Street, SW., Stop 7101 Washington, DC 20593. For privacy issues please contact: Mary Ellen Callahan (703-235-0780), Chief Privacy Officer, Privacy Office, U.S. Department of Homeland Security, Washington, DC 20528.

SUPPLEMENTARY INFORMATION:

I. Background

In accordance with the Privacy Act of 1974, 5 U.S.C. 552a, the Department of Homeland Security (DHS) United States Coast Guard (USCG) proposes to update and reissue an existing DHS system of records titled, “DHS/USCG-020 Substance Abuse Prevention and Treatment Program System of Records.” This system allows the USCG to collect and maintain the USCG's Substance Abuse Prevention and Treatment Program records.

As a result of the biennial review of this system, records have been updated in the categories of individuals covered by the system section to specifically identify Coast Guard personnel, active duty and reserve receiving substance abuse treatment (inpatient or outpatient), and those requiring follow-up or aftercare substance abuse treatment services. Records in the categories of records in the system have been updated to include member responses to alcohol screening questions. The purpose of the system has been updated to reflect the fact the Coast Guard will use prevalence samples, an estimate of how common substance abuse is in the service.

II. Privacy Act

The Privacy Act embodies fair information practice principles in a statutory framework governing the means by which the U.S. Government collects, maintains, uses, and disseminates individuals' records. The Privacy Act applies to information that is maintained in a “system of records.” A “system of records” is a group of any records under the control of an agency for which information is retrieved by the name of an individual or by some identifying number, symbol, or other identifying particular assigned to the individual. In the Privacy Act, an individual is defined to encompass U.S. citizens and lawful permanent residents. As a matter of policy, DHS extends administrative Privacy Act protections to all individuals where systems of records maintain information on U.S. citizens, lawful permanent residents, and visitors.

Below is the description of the DHS/United States Coast Guard—020 Substance Abuse Prevention and Treatment Program System of Records.

In accordance with 5 U.S.C. 552a(r), DHS has provided a report of this system of records to the Office of Management and Budget (OMB) and to Congress.

III. Health Insurance Portability and Accountability Act

This system of records contains individually identifiable health information. The Health Insurance Portability and Accountability Act of 1996, applies to most of such health information. Department of Defense 6025.18-R may place additional procedural requirements on the uses and disclosures of such information beyond those found in the Privacy Act of 1974 or mentioned in this system of records notice.

System of Records

Department of Homeland Security (DHS)/USCG-020.

System name:

DHS/USCG-020 Substance Abuse Prevention and Treatment Program.

Security classification:

Unclassified.

System location:

Records are maintained at the USCG Headquarters in Washington, DC and field offices.

Categories of individuals covered by the system:

Categories of individuals covered by this system include Coast Guard personnel, active duty and reserve receiving substance abuse screening, those receiving substance abuse treatment (inpatient or outpatient), and those requiring follow-up or aftercare substance abuse treatment services.

Categories of records in the system:

Categories of records in this system include:

• Individual's name;

• Employee ID Number (EMPLID);

• Rate/Rank;

• History of substance abuse;

• Operation facility code;

• Treatment center;

• Diagnosis;

• Dates of treatment;

• Member responses to alcohol screening questions;

• Treatment records;

• Notes on aftercare; and

• Final disposition and type.

Authority for maintenance of the system:

5 U.S.C. 301; 5 U.S.C. 7901; 14 U.S.C. 93(a)(17); 14 U.S.C. 632; 42 U.S.C. 4541; COMDTINST M6200.1A, Coast Guard Health Promotion Manual.

Purpose(s):

The purpose of this system is to administer the USCG Substance Abuse Prevention and Treatment program, including to identify alcohol and drug abusers within the USCG; to treat, counsel, and rehabilitate individuals who participate in the USCG Substance Abuse Program; as a management tool to identify trends, to understand through prevalence samples the impact on the service, to judge the magnitude of drug and alcohol abuse in the service; and to measure the effectiveness and efficacy of drug and alcohol prevention efforts in the USCG.

Routine uses of records maintained in the system, including categories of users and the purposes of such uses:

Note: For records of identity, diagnosis, prognosis, or treatment of any client/patient, irrespective of whether or when he/she ceases to be a client/patient, maintained in connection with the performance of any alcohol or drug abuse prevention and treatment function conducted, requested, or directly or indirectly assisted by any department or agency of the United States, shall, except as provided therein, be confidential and be disclosed only for the purposes and under circumstances expressly authorized in 42 U.S.C. 290dd-2. The routine uses set forth below do not apply to this information. This statute takes precedence over the Privacy Act of 1974 to the extent that disclosure is more limited. However, access to the record by the individual to whom the record pertains is governed by the Privacy Act.

Note: For those records not described above, this system of records contains individually identifiable health information. The Health Insurance Portability and Accountability Act of 1996, applies to most of such health information. Department of Defense 6025.18-R may place additional procedural requirements on the uses and disclosures of such information beyond those found in the Privacy Act of 1974 or mentioned in this system of records notice. Therefore, routine uses outlined below may not apply to such health information.

In addition to those disclosures generally permitted under 5 U.S.C. 552a(b) of the Privacy Act, all or a portion of the records of information contained in this system may be disclosed outside DHS as a routine use pursuant to 5 U.S.C. 552a(b)(3) as follows:

A. To the Department of Justice (DOJ), including U.S. Attorney Offices, or other federal agency conducting litigation or in proceedings before any court, adjudicative or administrative body, when it is necessary to the litigation and one of the following is a party to the litigation or has an interest in such litigation:

1. DHS or any component thereof;

2. any employee of DHS in his/her official capacity;

3. any employee of DHS in his/her individual capacity where the DOJ or DHS has agreed to represent the employee; or

4. the U.S. or any agency thereof, is a party to the litigation or has an interest in such litigation, and DHS determines that the records are both relevant and necessary to the litigation and the use of such records is compatible with the purpose for which DHS collected the records.

B. To a congressional office from the record of an individual in response to an inquiry from that congressional office made at the request of and with the consent of the individual to whom the record pertains in accordance with 42 U.S.C. 290dd-2(g).

C. To the National Archives and Records Administration (NARA) or other federal government agencies pursuant to records management inspections being conducted under the authority of 44 U.S.C. 2904 and 2906.

D. To contractors and their agents, grantees, experts, consultants, and others performing or working on a contract, service, grant, cooperative agreement, or other assignment for DHS, when necessary to accomplish an agency function related to this system of records. Individuals provided information under this routine use are subject to the same Privacy Act requirements and limitations on disclosure as are applicable to DHS officers and employees.

E. To appropriate State and local authorities to report, under State law, incidents of suspected child abuse or neglect to the extent described under 42 CFR 2.12 and in accordance with 42 U.S.C. 290dd-2(e).

F. To any person or entity to the extent necessary to prevent an imminent and potential crime that directly threatens loss of life or serious bodily injury.

G. To report to appropriate authorities when an individual is potentially at risk to harm himself/herself or others.

H. To health care components of the Department of Veterans Affairs furnishing health care to veterans.

Disclosure to consumer reporting agencies:

None.

Policies and practices for storing, retrieving, accessing, retaining, and disposing of records in the system:

Storage:

Records in this system are stored electronically or on paper in secure facilities in a locked drawer behind a locked door. The records are stored on magnetic disc, tape, digital media, and CD-ROM.

Retrievability:

Records may be retrieved by individual name, EMPLID, or unit operation facility code.

Safeguards:

Records in this system are safeguarded in accordance with applicable rules and policies, including all applicable DHS automated systems security and access policies. Strict controls have been imposed to minimize the risk of compromising the information that is being stored. Access to the computer system containing the records in this system is limited to those individual who have a need to know the information for the performance of their official duties and who have appropriate clearances or permissions.

Retention and disposal:

Records in this system are stored electronically in secure facilities behind a locked door. The records are stored on an electronic server. Military Substance abuse records are not scheduled. Records will be retained indefinitely.

System Manager and address:

Commandant (CG-11), United States Coast Guard Headquarters, 2100 2nd Street, SW., Stop 7902, Washington, DC 20593.

Notification procedure:

Individuals seeking notification of and access to any record contained in this system of records, or seeking to contest its content, may submit a request in writing to Commandant (CG-11), United States Coast Guard Headquarters, 2100 2nd Street, SW., Stop 7902, Washington, DC 20593.

When seeking records about yourself from this system of records or any other Departmental system of records, your request must conform to the Privacy Act regulations set forth in 6 CFR Part 5. You must first verify your identity, meaning that you must provide your full name, current address, and date and place of birth. You must sign your request, and your signature must either be notarized or submitted under 28 U.S.C. 1746, a law that permits statements to be made under penalty of perjury as a substitute for notarization. While no specific form is required, you may obtain forms for this purpose from the Director, Disclosure and FOIA, http://www.dhs.gov or 1-866-431-0486. In addition you should provide the following:

• An explanation of why you believe the Department would have information on you;

• Identify which component(s) of the Department you believe may have the information about you;

• Specify when you believe the records would have been created;

• Provide any other information that will help the FOIA staff determine which DHS component agency may have responsive records; and

• If your request is seeking records pertaining to another living individual, you must include a statement from that individual certifying his/her agreement for you to access his/her records.

Without this bulleted information the USCG may not be able to conduct an effective search, and your request may be denied due to lack of specificity or lack of compliance with applicable regulations.

Record access procedures:

See “Notification procedure” above.

Contesting record procedures:

See “Notification procedure” above.

Record source categories:

Records are obtained from personnel who submit to drug and alcohol testing, DHS and its components and offices, and testing and treatment facilities.

Exemptions claimed for the system:

None.

Dated: July 13, 2011.
Mary Ellen Callahan,
Chief Privacy Officer, Department of Homeland Security.

[FR Doc. 2011-20229 Filed 8-9-11; 8:45 am]

BILLING CODE 9110-04-P